DEPARTMENT OF THE INTERIOR

Bureau of Land Management

[OR-090-5882-PH-EE01; HAG 04-0081]

Notice of Meeting

AGENCY: Bureau of Land Management, Interior.

ACTION: Meeting notice for the Engene District, Bureau of Land Management (BLM) Resources Advisory Committees under Section 205 of the Secure Rural Schools and Community Self Determination Act of 2000 (Pub. 106-393).

SUMMARY: This notice is published in accordance with Section 10(a)(2) of the Federal Advisory Committee Act. Meeting notice is hereby given for the Eugene District BLM Resources Advisory Committee pursuant to Section 205 of the Secure Rural Schools and Community Self Determination Act of 2000, Public Law 106-393 (the Act). Topics to be discussed by the BLM Resource Advisory Committee include selection of a chairperson, public forum and proposed projects for funding in “Round 4, FY 05” under Title II of the Act.

DATES: The BLM Resource Advisory Committees will meet on the following dates: The Eugene Resource Advisory Committee will meet at the BLM Eugene District Office, 2890 Chad Drive, Eugene, Oregon 97440, 9 a.m. to 4:30 p.m. on May 20, 2004 and 9 a.m. to 4:30 p.m., on June 10, 2004. The public forum will be held from 12:30-1 pm on both days.

SUPPLEMENTARY INFORMATION: Pursuant to the Act, five Resource Advisory Committees have been formed for western Oregon BLM districts that contain Oregon & California (U&C) Grant Lands and Coos Bay Wagon Road lands. The Act establishes a six year payment schedule to local counties in lieu of funds derived from the harvest of timber on Federal lands, which have dropped dramatically over the past 10 years.

The Act creates a new mechanism for local community collaboration with Federal land management activities in the selection of projects to be conducted on federal lands or that will benefit resources on federal lands using funds under Title II of the Act. The BLM Resource Advisory Committees consist of 15 local citizens (plus 6 alternates) representing a wide array of interests.

FOR FURTHER INFORMATION CONTACT: Additional information concerning the BLM Resource Advisory Committees may be obtained from Wayne Elliott, Designated Federal Official, Eugene District Office, P.O. Box 10226, Eugene, Oregon 97440, (541) 683-6600, or wayne_elliott@or.blm.gov.

Dated: February 3, 2004.
Julia Dougan,
Eugene District Manager.

[FR Doc. 04-2781 Filed 2-9-04; 8:45 am]

BILLING CODE 4310-33-M